DEPARTMENT OF COMMERCE

National Oceanic and Atmospheric Administration

RIN 0648-XE306

Endangered and Threatened Species; Take of Anadromous Fish

AGENCY: National Marine Fisheries Service (NMFS), National Oceanic and Atmospheric Administration (NOAA), Commerce.

ACTION: Applications for three new scientific research permits and two permit renewals.

SUMMARY: Notice is hereby given that NMFS has received five scientific research permit application requests relating to Pacific salmon, steelhead, and eulachon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on December 7, 2015.

ADDRESSES: Written comments on the applications should be sent to the Protected Resources Division, NMFS, 1201 NE Lloyd Blvd., Suite 1100, Portland, OR 97232-1274. Comments may also be sent via fax to 503-230-5441 or by email to nmfs.nwr.apps@noaa.gov (include the permit number in the subject line of the fax or email).

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): Lower Columbia River (LCR); threatened Puget Sound (PS).

Steelhead (O. mykiss): Threatened LCR; threatened PS.

Chum salmon (O. keta): Threatened Columbia River (CR).

Coho salmon (O. kisutch): Threatened LCR.

Eulachon (Thaleichthys pacificus): Threatened Southern (S) distinct population segment.

Authority

Scientific research permits are issued in accordance with section 10(a)(1)(A) of the ESA (16 U.S.C. 1531 et. seq) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 15582-2R

The City of Bothell, Washington is seeking to renew for five years a research permit that allows them to annually take juvenile PS Chinook salmon and PS steelhead. The purpose of the study is to develop a baseline and trend analysis to inform management decisions that could affect or be affected by stream water quality. These surveys would entail collecting macroinvertebrate samples and surveying streams for fish. The project would benefit listed salmonids by determining fish diversity in the monitored streams and generating information to help guide management decisions that would help remedy stream degradation. The researchers propose to capture fish using backpack electrofishing equipment and dip nets. The captured fish would be transferred to buckets via dip nets, anesthetized, identified by species, enumerated, measured, and released when recovered. The researchers do not propose to kill any listed fish, but a small number may die as an unintended result of the activities.

Permit 15611-2R

The Washington Department of Fish and Wildlife (WDFW) is seeking to renew for five years a permit that currently authorizes them to take adult LCR Chinook salmon, LCR steelhead, LCR coho salmon, and CR chum salmon while operating a fish collection facility on the North Fork Toutle River in Washington State. The fish collection facility is located at river mile 47.5, approximately 1.3 miles downstream from the Mount St. Helens sediment-retention structure. The purpose of the project is to trap and haul salmon and steelhead around the sediment retention structure. The WDFW would also collect scientific information and tag a portion of the fish to monitor migration patterns and spawning success. The primary benefit of the activities would be to allow listed salmon and steelhead to spawn in historically accessible habitat upstream of the sediment retention structure. The work would also benefit the fish by generating information on the species migration and spawning timing and location. The WDFW proposes to operate the trap several days a week during the species' upstream migration. Captured fish would be transported in a tanker truck and released upstream of the sediment retention structure. The WDFW does not intend to kill any fish being captured but some may die as an unintentional result of the activities.

Permit 18908

The Skagit Fisheries Enhancement Group (SFEG) has requested a five-year permit to annually take juvenile PS Chinook and PS steelhead in the Skagit River watershed. The purpose of the study is to help SFEG identify sites in need of restoration and target enhancement efforts. The project would benefit listed salmonids by helping guide projects designed to provide restored and high-quality rearing habitat. The SFEG proposes to capture fish using a beach seine and dip net. Fish captured in the seine (and kept in the water) would be removed using a small dip-net, quickly identified by species, and then immediately released into the water outside of the seine. The researchers do not propose to kill any of the listed fish being captured, but a small number may die as an unintended result of the activities.

Permit 19559

The AMEC Foster Wheel (AMECFW) is seeking a three-year research permit to annually take juvenile PS Chinook salmon and PS steelhead in the northern Puget Sound. The AMECFW research may also take adult S eulachon, for which there are currently no ESA take prohibitions. The researchers propose to use hydroacoustics to map herring school size and distribution from Point Whitehorn to Sandy Point (Whatcom County; WA). They would then use lampara seine/dip net surveys to confirm the species distribution and abundance information generated by the hydroacoustic surveys. The researchers may encounter a small number of listed salmonids and eulachon as bycatch in the netting/seining operations, but those animals would be released immediately without further handling or sampling. The researchers do not propose to kill any of the listed fish being captured, but a small number may die as an unintended result of the activities.

Permit 19738

The Washington Department of Natural Resources (WDNR) is seeking a five-year research permit to annually take juvenile PS Chinook salmon and PS steelhead in streams of northwest Puget Sound. The purpose of the study is to correctly type streams to ensure that riparian habitat buffers and fish passage structures adequately support or improve conditions for aquatic species, including listed salmonids. The WDNR proposes to capture fish using backpack electrofishing equipment. The captured fish would be counted, identified, measured and released. The researchers do not propose to kill any of the listed salmonids being captured, but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: November 3, 2015.
Angela Somma,
Chief, Endangered Species Division, Office of Protected Resources, National Marine Fisheries Service.

[FR Doc. 2015-28333 Filed 11-5-15; 8:45 am]

BILLING CODE 3510-22-P